DEPARTMENT OF COMMERCE

National Oceanic and Atmospheric Administration

RINS 0648-XA874, 0648-XA172, 0648-XA626, 0648-XA84, 0648-XF213, 0648-XB005, 0648-XC644, 0648-XD224, 0648-XD824, 0648-XF158, 0648-XE204, 0648-XE517, 0648-XF148, 0648-XE788, 0648-XE938, 0648-XF603, 0648-XF149, 0648-XF082, 0648-XF154, 0648-XF213, 0648-XF214, 0648-XF271, 0648-XF267, and 0648-XF352

Marine Mammals and Endangered Species; File Nos. 15240-01, 15453-01, 15569-01, 16160-02, 16163-03, 16479-04, 16609, 17086-01, 18016-01, 18537-02, 18890-01, 19508, 19621-01, 19697, 20294, 20339, 20430, 20455, 20465, 20527, 20646, 20993, 21026, 21043, 21155, and 21199

AGENCY: National Marine Fisheries Service (NMFS), National Oceanic and Atmospheric Administration (NOAA), Commerce.

ACTION: Notice; issuance of permits and permit amendments/modifications.

SUMMARY: Notice is hereby given that permits or permit amendments have been issued to the following entities:

RIN 0648-XA874; Permit No. 15240-01: NMFS Pacific Islands Fisheries Science Center (PIFSC), 1845 Wasp Boulevard, Building 176, Honolulu, HI 96818 (Responsible Party: Frank A. Parrish, Ph.D.);

RIN 0648-XA172; Permit No. 15453-01: Waikiki Aquarium, 2777 Kalakaua Avenue, Honolulu, HI 96815 (Andrew Rossiter, Ph.D., Responsible Party);

RIN 0648-XA626; Permit No. 15569-01: The Center for Whale Research (CWR; Kenneth C. Balcomb III, Responsible Party), P.O. Box 1577, Friday Harbor, WA 98250;

RIN 0648-XA626; Permit No. 16160-02: The Whale Museum (Jenny Atkinson, Responsible Party), P.O. Box 945, Friday Harbor, WA 98250;

RIN 0648-XA626; Permit No. 16163-03: NMFS Northwest Fisheries Science Center (NWFSC; M. Bradley Hanson, Ph.D., Responsible Party) 2725 Montlake Blvd.

RIN 0648-XA84; Permit No. 16479-04: Pacific Whale Foundation (Gregory D. Kaufman, Responsible Party), 300 Maalaea Road, Suite 211, Wailuku, HI 96793;

RIN 0648-XF213; Permit No. 16609: Zoological Society of San Diego (Douglas Myers, Responsible Party), P.O. Box 120551, San Diego, CA 92112;

RIN 0648-XB005; Permit No. 17086-01: Robin Baird, Ph.D., Cascadia Research, 218 ½ W. 4th Avenue, Olympia, WA 98501;

RIN 0648-XC644; Permit No. 18016-01: Tamara McGuire, Ph.D., LGL Alaska Research Associates, Inc., 2000 W. International Airport Rd, Suite C1, Anchorage, AK 99502;

RIN 0648-XD224; Permit No. 18537-02: Alaska Department of Fish and Game (Michael J. Rehberg, Responsible Party), 525 W. 67th Avenue, Anchorage, Alaska 99518;

RIN 0648-XD824; Permit No. 18890-01: Alaska Department of Fish and Game (Lori Quakenbush, Responsible Party), 525 W. 67th Avenue, Anchorage, Alaska 99518;

RIN 0648-XF158; Permit No. 19508: Katherine Mansfield, Ph.D., University of Central Florida, 4000 Central Florida Boulevard, Building 20, BIO301, Orlando, FL 32825;

RIN 0648-XE204; Permit No. 19621-01: Michael Arendt, South Carolina Department of Natural Resources, Marine Resources Division, 217 Fort Johnson Road, Charleston, SC 29412;

RIN 0648-XE517; Permit No. 19697: Carlos E. Diez, Departamento de Recursos Naturales y Ambientales de Puerto Rico, Programa de Especies Protegidas, P.O. Box 366147, San Juan, Puerto Rico, 00936;

RIN 0648-XF148; Permit No. 20294: Robert DiGiovanni, Jr., Chief Scientist, Atlantic Marine Conservation Society (P.O. Box 932, Hampton Bays, New York, 11946;

RIN 0648-XE788; Permit No. 20339: NMFS Southeast Fisheries Center (SEFSC), 75 Virginia Beach Drive, Miami, FL 33149 [Responsible Party: Bonnie Ponwith];

RIN 0648-XE938; Permit No. 20430: James Harvey, Ph.D., Moss Landing Marine Laboratories, 8272 Moss Landing Road, Moss Landing, CA, 95039;

RIN 0648-XF603; Permit No. 20455: Randall Wells, Ph.D., Chicago Zoological Society's Sarasota Dolphin Research Program, c/o Mote Marine Laboratory, 1600 Ken Thompson Parkway, Sarasota, FL 34236;

RIN 0648-XF149; Permit No. 20465: NMFS Alaska Fisheries Science Center (AFSC) Marine Mammal Laboratory, 7600 Sand Point Way NE., Seattle, WA 98115-6349 (Responsible Party: Dr. John Bengtson);

RIN 0648-XF082; Permit No. 20527: Ann Pabst, Ph.D., University of North Carolina Wilmington, Biology and Marine Biology, 601 S. College Road, Wilmington, NC 28403;

RIN 0648-XF213; Permit No. 20646: Morgridge Institute for Research [James Thomson, Ph.D., Responsible Party], 330 N. Orchard St., Madison, WI 53715;

RIN 0648-XF154; Permit No. 20993: Christopher Cilfone, Be Blue, 2569 Douglas Hwy. Unit 1, Juneau, AK 99801;

RIN 0648-XF214; Permit No. 21026: Dorian Houser, Ph.D., National Marine Mammal Foundation, 22400 Shelter Island Drive #200, San Diego, CA 92106;

RIN 0648-XF271; Permit No. 21043: Florida Fish and Wildlife Conservation Commission, Fish and Wildlife Research Institute, 585 Prineville Street, Port Charlotte, FL 33954;

RIN 0648-XF267; Permit No. 21155: Karina Amaral, Federal University of Rio Grande do Sul, Zoology Department, Avenida Bento Goncalves, 9500 Build 43435, Room 206, Porto Alegre, MI, 91.501-970, Brazil;

RIN 0648-XF352; Permit No. 21199: British Broadcasting Corporation (BBC) Natural History Unit, BBC Bristol, Whiteladies Road, United Kingdom BS8 2LR, (Responsible Party: Vanessa Coates).

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Shasta McClenahan (File Nos. 16160-02, 16163-03, 16609, 17086-01, 20430, 20455, 20465, 20527, 20646, and 21026), Amy Hapeman (File Nos. 16160-02, 16163-03, 18016-01, 19508, 19621-01, 19697, 20339, 20430, 20455, and 20465), Carrie Hubard (File Nos. 15240-01, 17086, 19508, 20993, 20527, 21026, 21155, and 21199), Jennifer Skidmore (File Nos. 21155, 15453-01, 16609, and 20646), Courtney Smith (File Nos. 16479-04, 18537-02, 18890-01, and 20294), Malcolm Mohead (File Nos. 19621-01 and 21043), Sara Young (File No. 15240-01, 18016-01 and 21199), and Erin Markin (File Nos. 19697 and 20339) at (301) 427-8401.

SUPPLEMENTARY INFORMATION: Notices were published in the Federal Register that requests for a permit or permit amendment had been submitted by the above-named applicants. The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 15240-01: The original permit (No. 15240), issued on May 15, 2012 (77 FR 31836) authorized the PIFSC to study 20 cetacean species in U.S. and international waters of the Pacific Islands Region. The action area includes Hawaii, Palmyra, American Samoa, Guam, the Commonwealth of the Northern Mariana Islands, Johnston Atoll, Kingman Reef, Howland Island, Baker Island, Jarvis Island, and Wake Island. Research methodologies include aerial and vessel surveys, behavioral observations, photo-identification, acoustic recordings, biopsy collection, and dart and suction cup tagging. Salvage and import/export of cetacean parts, specimens, and biological samples may also occur. The minor amendment (No. 15240-01) extends the duration of the permit through May 31, 2018, but does not change any other terms or conditions of the permit.

Permit No. 15453-01: The original permit (No. 15453), issued on April 30, 2012 (77 FR 27718) authorized the Waikiki Aquarium to maintain in captivity up to three non-releasable Hawaiian monk seals (Neomonachus schauinslandi) for research and enhancement purposes. Research includes (1) a long-term study on the digestive efficiency of captive seals; and (2) a post-vaccination antibody response study using West Nile virus and canine distemper virus vaccinations. The seals will be displayed to the public incidental to the research program, and the Waikiki Aquarium provides daily public narrations and educational graphics about the Hawaiian monk seal. The minor amendment (No. 15453-01) extends the duration of the permit through April 30, 2018, but does not change any other terms or conditions of the permit.

Permit No. 15569-01: The original permit (No. 15569), issued on June 5, 2012 (77 FR 35657) authorized WCR take of 22 species of marine mammals in the coastal eastern North Pacific from the southern boundary of California to Alaskan waters east of Kodiak Island, including all territorial waters up to 200 nautical miles offshore. Harassment of all species of cetaceans will occur through vessel approach for photographic identification, behavioral research, opportunistic sampling (fecal material and prey remains), remote measuring (aerial and laser techniques), and passive acoustic recording. The minor amendment (No. 15569-01) authorizes the addition of unmanned aircraft systems (UAS) as an approved aerial system and extends the duration of the permit through June 6, 2018.

Permit No. 16160-02: The original permit (No. 16160), issued on June 5, 2012 (77 FR 35657) authorized takes of eight species of cetaceans in the inland waters of Washington State. Harassment of all species will occur through close vessel approach for photo-identification, behavioral observation, and monitoring. The minor amendment (No. 16160-02) extends the duration of the permit through June 6, 2018.

Permit No. 16163-03: The original permit (No. 16163), issued on June 5, 2012 (77 FR 35657) authorized take of 42 species of marine mammals in all U.S. and international waters in the Pacific Ocean, including waters of Alaska, Washington, Oregon, California, and Hawaii. Harassment of all species of cetaceans could occur through vessel approach for sighting surveys, photographic identification, behavioral research, opportunistic sampling (breath, sloughed skin, fecal material, and prey remains), acoustic imaging with echosounders, and aerial surveys. Twenty-seven cetacean species and unidentified mesoplodon species could be biopsy sampled, dart, and/or suction-cup tagged. Ultrasound sampling and active acoustic playback studies were authorized for killer whales including the Southern Resident stock. Import and export of marine mammal prey specimens, skin and blubber, sloughed skin, fecal and breath samples obtained was authorized. The minor amendment (No. 16163-03) extends the duration of the permit through June 6, 2018.

Permit No. 16479-04: The original permit (No. 16479), issued on September 8, 2012 (77 FR 59594) authorized vessel approaches for photo-identification and behavioral observation of humpback whales and incidental harassment of Hawaiian insular false killer whales (Pseudorca crassidens) in Maui County waters, Hawaii. A minor amendment (No. 01) to the permit was issued on August 23, 2013, authorizing the field season to start in December versus January of each permit year. A major amendment (No. 02) to the permit was issued on July 7, 2014 (79 FR 44754), authorizing the approach of false killer whales for photo-identification and behavioral observation to study their occurrence, distribution, movement, site fidelity, abundance, social organization, home ranges, and life history in place of previously authorized takes for incidental harassment during vessel surveys. The minor amendment (No. 16479-04) extends the duration of the permit through June 1, 2018.

Permit No. 16609: The requested permit (82 FR 12081) authorizes the receipt, import, and export of biological samples to establish and bank cell lines. Samples may be received from any species of cetacean, pinniped, or sea turtle, including ESA-listed species, from up to 30 individuals of each species. The duration of the permit is five years.

Permit No. 17086-01: The original permit (No. 17086), issued on May 11, 2012 (77 FR 29981), authorized takes of 27 species of cetaceans through vessel approach for sighting surveys, photographic identification, behavioral research, opportunistic sampling (sloughed skin, fecal material, breath samples, and prey remains), dart and/or suction-cup tagging, and import and export of marine mammal samples obtained. The minor amendment (No. 17086-01) extends the duration of the permit through May 12, 2018, but does not change any other terms or conditions of the permit.

Permit No. 18016-01: The original permit (No. 18016), issued on May 29, 2014 (79 FR 41991), authorizes the permit holder to conduct vessel surveys in Cook Inlet, Alaska for photo-identification and observations of endangered Cook Inlet beluga whales (Delphinapterus leucas). The purpose of the research is to identify individual whales and to provide information about movement patterns, habitat use, survivorship, reproduction, and population size. The amendment (No. 01) increases the number of whales that may be taken annually during vessel surveys. The amended permit is valid through June 1, 2019.

Permit No. 18537-02: The original permit (No. 18537), issued on August 8, 2014 (79 FR 19578), authorized ADF&G to take Steller sea lions (Eumetopias jubatus) during aerial, vessel, and ground surveys in support of the long-term Steller sea lion research program. It also authorized incidental disturbance of California sea lions (Zalophus californianus), and northern fur (Callorhinus ursinus), harbor (Phoca vitulina), spotted (Phoca largha), ribbon (Histriophoca fasciata), ringed (Phoca hispida hispida), and bearded (Erignathus barbatus) seals during research activities; and, annual unintentional mortality of 5 Steller sea lions from the Western Distinct Population Segment (wDPS) and 10 Steller sea lions from the Eastern DPS through August 31, 2019. An amendment, Permit No. 18537-01, issued on March 31, 2016 (81 FR 21323, April 11, 2016) authorized an increase in the number of California and Steller (wDPS) sea lions taken during aerial surveys from 4,725 to 10,000, and from 48,000 to 75,000, respectively; and an increase in the volume on a single blood draw from Steller sea lions from up to 1 ml/kg to up to 4 ml/kg. The minor amendment (No. 18537-02) issued authorizes a change in Responsible Party (now Michael J. Rehberg).

Permit No. 18890-01: The original permit (No. 18890), issued on March 26, 2015 (80 FR 15992), authorizes research on beluga (Delphinapterus leucas), bowhead (Balaena mysticetus), gray, and humpback whales in Alaska including photo-identification, biopsy sampling, and tagging (large whales and belugas) and aerial surveys and captures for health assessments (belugas, excluding the Cook Inlet Distinct Population Segment). Research studies include population abundance (beluga), stock structure (bowhead, gray, humpback, and beluga), feeding areas and other important habitats (all species), migration routes (all species), behavior relative to human disturbance (all species), and to genetically identify individuals in order to determine survival and calving intervals (belugas). The minor amendment (No. 18890-01) issued authorizes a change in Responsible Party (now Lori Quakenbush).

Permit No. 19508: The requested permit (82 FR 4855) authorizes the permit holder to study loggerhead (Caretta caretta), Kemp's ridley (Lepidochelys kempii), green (Chelonia mydas), hawksbill (Eretmochelys imbricata) and leatherback (Dermochelys coraicea) sea turtles. Research may occur in three study areas: (1) Indian River Lagoon, Florida; (2) Trident Turning Basin, Cape Canaveral, Florida; and (3) Northern and Eastern Gulf of Mexico. Researchers may capture sea turtles by tangle net, dip net, or by hand and perform the following procedures performed before release: Measure, flipper tag, passive integrated transponder tag, photograph/video, gastric lavage, and scute, blood, fecal, and tissue sampling. A subset of animals would receive an epoxy attached transmitter before release. The permit is valid for five years from the date of issuance.

Permit No. 19621-01: The original permit (No. 19621), issued on June 16, 2016 (81 FR 43589), authorizes the permit holder to conduct study loggerhead (Caretta caretta), Kemp's ridley (Lepidochelys kempii), green (Chelonia mydas), and leatherback (Dermochelys coriacea) sea turtles in the waters of Florida, Georgia and South Carolina. Researchers may capture animals by trawl or tangle net and perform the following procedures before release: Morphometrics, tagging, photography, biological sampling, ultrasound, marking, laparoscopy and associated transport, transmitter attachment, and/or epibiota removal. A limited number of sea turtles may accidentally die due to capture over the life of the permit. The modification (No. 01) authorizes researchers to (1) take olive ridley sea turtles (Lepidochelys olivacea) during all research projects; (2) expand Project 3's area to include coastal shoals adjacent to the Cape Canaveral channel; (3) extend Project 3's duration through October 2020; and (4) increase the annual take of green and loggerhead sea turtles by four and nine turtles, respectively, and authorize double tagging and tissue sampling of a small subset of these animals. The modified permit is valid through June 15, 2021.

Permit No. 19697: The requested permit (81 FR 15684) authorizes research on green and hawksbill (Eretmochelys imbricata) sea turtle aggregations in the coastal waters of Puerto Rico, including Mona, Monito, and Desecheo Islands, and Culebra Archipelago. Sea turtles may be captured, marked, measured, weighed, photographed, and biologically sampled. A subset of animals may also be outfitted with satellite transmitters to track movements post-release or undergo ultrasound and tumor removal surgery in a local facility. The permit is valid for five years from the date of issuance.

Permit No. 20294: The requested permit (82 FR 5538) authorizes aerial, vessel, and ground surveys of North Atlantic right whales (Eubalaena glacialis) and 44 other protected cetaceans and pinnipeds in Mid-Atlantic U.S. waters, from Massachusetts to North Carolina. Five of the target species are threatened or endangered: North Atlantic right, blue (Balaenoptera musculus), fin (B. physalus), sei (B. borealis), and sperm (Physeter macrocephalus) whales. Surveys will be conducted using fixed wing aircraft and vessels to assess seasonal abundance and distribution of marine mammals in the area. Ground surveys will be conducted on foot and with remote cameras to obtain counts of seals throughout different tidal cycles and to document prevalence of human interaction around seal haul-out sites accessible to the public. Seal scat will be collected for health assessment studies. The permit is valid for five years from the date of issuance.

Permit No. 20339: The requested permit (81 FR 54047) authorizes research on loggerhead, Kemp's ridley, green, leatherback, hawksbill, olive ridley and unidentified sea turtles in the Atlantic Ocean, Gulf of Mexico and Caribbean Sea. Animals for study would be directly captured by trawl or obtained as legal bycatch from a commercial fishery. The purpose of this project is to assist in the development and testing of gear aboard commercial fishing vessels to mitigate interactions and capture of sea turtles. Researchers are authorized to measure, weigh, apply a temporary carapace mark, flipper and Passive Integrated Transponder tag, tissue sample, and photograph/video live sea turtles before release and to salvage carcasses and parts from dead sea turtles. The permit is valid for five years from the date of issuance.

Permit No. 20430: The requested permit (81 FR 73381) authorizes research on large whales and dolphins in California waters including blue (Balaenoptera musculus), fin (B. physalus), humpback (Megaptera novaeangliae), gray (Eschrichtius robustus), and sperm (Physeter macrocephalus) whales, and Risso's dolphins (Grampus griseus) in order to study distribution, movement, diet, foraging, and acoustic behaviors of marine mammals. Research activities for large whales includes passive acoustics, behavioral observations, photography, video recording, biopsy sampling, collection of sloughed skin, attachment of suction cup or dart/barb tags, and tracking during vessel surveys. Research for Risso's dolphins includes passive acoustics, behavioral observations, and photo-identification. The number of species to be taken annually via tagging/biopsy/photo-identification are: 50/100/150 blue whales, 40/90/140 fin whales, 50/100/150 humpback whales, 160/210/260 gray whales, and 0/0/2,000 Risso's dolphins. Up to five sperm whales may be incidentally harassed and opportunistically photographed, annually. Up to 200 California sea lions (Zalophus californianus), 20 harbor seals (Phoca vitulina richardii), 50 Pacific white-sided dolphins (Lagenorhynchus obliquidens), 20 northern right whale dolphins (Lissodelphis borealis), 10 harbor porpoise (Phocoena phocoena), and 20 short-beaked common dolphins (Delphinus delphis) may be harassed incidental to research activities. The permit is valid through March 31, 2022.

Permit No. 20455: The requested permit (81 FR 90781) authorizes takes of up to 10,000 bottlenose (Tursiops truncatus) and 1,000 Atlantic spotted (Stenella frontalis) dolphins annually during vessel surveys for photography, photo-identification, video recording, behavioral observation, acoustic playbacks, and passive acoustic recording, with concurrent deployment of an unmanned aircraft system for photogrammetry. Up to 250 bottlenose and 100 spotted dolphins of the above animals may also be biopsy sampled during vessel surveys annually, and up to 50 bottlenose and 25 spotted dolphins annually of the above animals may be captured for health assessments, which would include biological sampling, auditory brainstem response tests, metabolic rate studies, ultrasound, x-rays, marking, tagging, tracking, and release. Up to 25 adults or juveniles of each species annually would be remotely satellite tagged to test the feasibility of a new dorsal fin attachment method. Two unintentional mortalities of each species could occur due to capture over the life of the permit. The permit is valid through May 31, 2022.

Permit No. 20465: The requested permit (82 FR 11179) authorizes researchers to monitor and evaluate cetacean trends, abundance, distribution, and health in the North Pacific Ocean, Bering, Beaufort, and Chukchi Seas, and in the Gulf of Maine and mid-Atlantic waters. Up to 26 species/stocks of cetaceans may be targeted for study including the following endangered or threatened species/stocks: Cook Inlet beluga, blue, fin, sei (B. borealis), bowhead (Balaena mysticetus), humpback, North Pacific right (Eubalaena japonica), Southern Resident killer (Orcinus orca), and sperm whales. Researchers may conduct manned and unmanned aerial surveys for counts, observations, photo-identification, photogrammetry, and video of cetaceans. Vessel surveys may be conducted for counts, biological sampling, observation, photo-identification, photogrammetry, video, tagging, and/or acoustic playbacks of cetaceans. Seven pinniped species including endangered Steller sea lions may be harassed incidental to research. Requested captures, research activities and associated mortalities of beluga whales is not authorized. The permit is valid for five years.

Permit No. 20527: The requested permit (81 FR 91919) authorizes takes of up to 29 species of cetaceans year-round in the Atlantic Ocean from Delaware Bay to Cape Canaveral, FL, and will include aerial and vessel surveys to conduct counts, photo-identification, photogrammetry, and behavioral observations. The permit is valid through May 31, 2022.

Permit No. 20646: The requested permit (82 FR 12081) authorizes the receipt, import, and export of biological samples to establish and bank cetacean stem cells. Samples may be acquired from any species of marine mammal; however, the applicant has identified 38 species of cetaceans, including ESA-listed species, to focus acquisition efforts. Up to 12 individuals of each species would be requested. In addition, eight samples (from four individual animals) currently on loan would be transferred permanently to the applicant. The permit is valid for five years.

Permit No. 20993: The requested permit (82 FR 4860) authorizes the filming of 50 humpback whales in Hawaiian waters as part of a commercial photography project. Whales may be filmed using boats, unmanned aerial systems, or snorkelers. Bottlenose (Tursiops truncatus), pantropical spotted (Stenella attenuata), and spinner (S. longirostris) dolphins may be incidentally harassed during filming. Footage will be used to create a film about humpback whales and their conservation success. The permit is valid through April 30, 2018.

Permit No. 21026: The requested permit (82 FR 11004) authorizes the use evoked auditory potential testing on stranded cetaceans to determine their hearing range. Up to 15 individuals of any species and any age class of non-listed or ESA-listed cetacean may be tested. Passive acoustic recording, suction-cup sensors, subcutaneous electrodes, and ultrasound may be used during testing. Listed cetacean species may include: Beluga, blue, bowhead, false killer (Pseudorca crassidens), fin, gray, humpback, killer North Atlantic right (Eubalaena glacialis), North Pacific right, sei, and sperm whales, and vaquita (Phocoena sinus). The permit is valid through March 31, 2022.

Permit No. 21043: The requested permit (82 FR 15514) authorizes capture and further monitoring of endangered smalltooth sawfish to develop conservation and protective measures, ensuring species recovery. Other listed species potentially encountered and incidentally collected include green, hawksbill, Kemp's ridley, leatherback, and loggerhead sea turtles. Researchers may capture smalltooth sawfish in Florida waters, and then measure, weigh, tag, genetic tissue sample, draw blood, and photograph the animals prior to release. The researchers will also receive salvaged animals and parts taken at other locations within the target species' range. The permit is valid through May 31, 2022.

Permit No. 21155: The requested permit (82 FR 13801) authorizes the importation of 118 DNA samples from the Federal University of Rio Grande Do Sul in Brazil to the University of Michigan, Ecology and Evolutionary Biology Department in Ann Arbor, MI, for genetics research. The Atlantic spotted dolphins (Stenella frontalis) samples were collected between 1996 and 2016 via biopsy sampling of live animals or from stranded animals, in accordance with the laws of Brazil. The permit also authorizes the export of any remaining samples back to Brazil. The permit is valid for five months.

Permit No. 21199: The requested permit (82 FR 18739) authorizes the BBC Natural History Unit to film killer whales (Orcinus orca), Dall's porpoise (Phocoenoides dalli), and Pacific white-sided dolphins (Lagenorhynchus obliquidens). Filming may occur near Seward, Alaska over six days in May 2017 and in Juneau, AK over six days at the end of July 2017. Filming would occur from cameras on board a vessel or by helicopter. Hydrophones would be used to record vocalizations. Footage would be used for an Alaska Live television series to showcase the gathering of wildlife in Alaska that occurs around the salmon runs. The permit is valid through August 31, 2017.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in section 2 of the ESA.

Dated: June 22, 2017.
Catherine Marzin,
Acting Deputy Director, Office of Protected Resources, National Marine Fisheries Service.

[FR Doc. 2017-13434 Filed 6-26-17; 8:45 am]

BILLING CODE 3510-22-P